DEPARTMENT OF ENERGY

Federal Energy Regulatory Commission

Combined Notice of Filings #1

Take notice that the Commission received the following electric rate filings:

Docket Numbers: ER14-2017-002.

Applicants: California Independent System Operator Corporation.

Description: Compliance filing per 35: 2014-09-26_FNM_Waiver to be effective N/A.

Filed Date: 9/26/14.

Accession Number: 20140926-5220.

Comments Due: 5 p.m. ET 10/3/14.

Docket Numbers: ER14-2325-000.

Applicants: Mosaic Fertilizer, LLC.

Description: eTariff filing per 35.19a(b): Refund Report to be effective N/A.

Filed Date: 9/26/14.

Accession Number: 20140926-5185.

Comments Due: 5 p.m. ET 10/17/14.

Docket Numbers: ER14-2952-000.

Applicants: Midcontinent Independent System Operator, Inc.

Description: § 205(d) rate filing per 35.13(a)(2)(iii): 2014-09-26_Amend Schedule 43, 43G, & 43H to be effective 12/1/2014.

Filed Date: 9/26/14.

Accession Number: 20140926-5183.

Comments Due: 5 p.m. ET 10/17/14.

Docket Numbers: ER14-2953-000.

Applicants: PJM Interconnection, L.L.C.

Description: Tariff Withdrawal per 35.15: Notice of Cancellation of Service Agreement No. 3047; Queue No. W3-095 to be effective 11/17/2014.

Filed Date: 9/26/14.

Accession Number: 20140926-5188.

Comments Due: 5 p.m. ET 10/17/14.

Docket Numbers: ER14-2954-000.

Applicants: Golden Spread Electric Cooperative, Inc.

Description: Tariff Withdrawal per 35.15: REA and EESA Cancellation to be effective 10/1/2014.

Filed Date: 9/26/14.

Accession Number: 20140926-5206.

Comments Due: 5 p.m. ET 10/17/14.

Docket Numbers: ER14-2955-000.

Applicants: Skylar Resources, LP.

Description: Initial rate filing per 35.12 Application for Market-Based Rates to be effective 10/25/2014.

Filed Date: 9/26/14.

Accession Number: 20140926-5212.

Comments Due: 5 p.m. ET 10/17/14.

Docket Numbers: ER14-2956-000.

Applicants: Hoopeston Wind, LLC.

Description: Initial rate filing per 35.12 Hoopsten Wind Baseline Tariff Filing to be effective 9/26/2014.

Filed Date: 9/26/14.

Accession Number: 20140926-5221.

Comments Due: 5 p.m. ET 10/17/14.

Take notice that the Commission received the following electric securities filings:

Docket Numbers: ES14-54-000.

Applicants: NorthWestern Corporation.

Description: Application for authorization to issue securities under FPA Section 204 of NorthWestern Corporation.

Filed Date: 9/29/14.

Accession Number: 20140929-5072.

Comments Due: 5 p.m. ET 10/20/14.

Take notice that the Commission received the following qualifying facility filings:

Docket Numbers: QF14-809-000.

Applicants: CF Industries Nitrogen, LLC.

Description: Form 556 of CF Industries Nitrogen, LLC.

Filed Date: 9/29/14.

Accession Number: 20140929-5100.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2014.
Nathaniel J. Davis, Sr.,
Deputy Secretary.

[FR Doc. 2014-23759 Filed 10-3-14; 8:45 am]

BILLING CODE 6717-01-P